DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Applications for Trademark Registration.

Form Number(s): PTO Forms 4.8, 4.9, 1478, and 1478(a).

Agency Approval Number: 0651-0009.

Type of Request: Extension of a currently approved collection.

Burden: 132,106 hours annually.

Number of Respondents: 380,289 responses per year, with 374,020 responses filed electronically.

Avg. Hours per Response: The USPTO estimates that it will take the public approximately 18 to 30 minutes (0.30 to 0.50 hours) to complete the applications in this collection, depending on the application. This includes the time to gather the necessary information, prepare the application, and submit the completed application to the USPTO.

Needs and Uses: This collection of information is required by the Trademark Act, 15 U.S.C. 1051 et seq. The rules implementing the Trademark Act are set forth in 37 CFR part 2. The Act and rules provide for the Federal registration of trademarks, service marks, collective trademarks and service marks, collective membership marks, and certification marks. Individuals and businesses who use their marks, or intend to use their marks, in commerce regulable by Congress, may file an application with the USPTO to register their marks. The USPTO uses the information in this collection to process the applications for the various marks and to determine whether the marks may be registered. This collection contains three paper forms and six electronic forms. The electronic forms are available through the Trademark Electronic Application System (TEAS). The information in this collection is available to the public.

Affected Public: Businesses or other for-profits; and not-for-profit institutions.

Frequency: On occasion.

Respondent's Obligation: Required to obtain or retain benefits.

OMB Desk Officer: Nicholas A. Fraser, e-mail: Nicholas_A._Fraser@omb.eop.gov.

Once submitted, the request will be publicly available in electronic format through the Information Collection Review page at http://www.reginfo.gov.

Paper copies can be obtained by:

• E-mail: InformationCollection@uspto.gov. Include “0651-0009 copy request” in the subject line of the message.

• Mail: Susan K. Fawcett, Records Officer, Office of the Chief Information Officer, United States Patent and Trademark Office, P.O. Box 1450, Alexandria, VA 22313-1450.

Written comments and recommendations for the proposed information collection should be sent on or before November 14, 2011 to Nicholas A. Fraser, OMB Desk Officer, via e-mail to Nicholas_A._Fraser@omb.eop.gov, or by fax to 202-395-5167, marked to the attention of Nicholas A. Fraser.

Dated: October 6, 2011.
Susan K. Fawcett,
Records Officer, USPTO, Office of the Chief Information Officer.

[FR Doc. 2011-26307 Filed 10-11-11; 8:45 am]

BILLING CODE 3510-16-P